FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than July 13, 2001.

A. Federal Reserve Bank of Atlanta (Cynthia C. Goodwin, Vice President) 104 Marietta Street, N.W., Atlanta, Georgia 30303-2713:

1. First Dozier Bancshares, Inc., Dozier, Alabama; to become a bank holding company by acquiring 100 percent of the voting shares of The First National Bank of Dozier, Dozier, Alabama.

2. Trust B Created Under Item V of the Last Will and Testament of John Rufus Williams, Atlanta, Georgia; to become a bank holding company by acquiring 33.3 percent of the voting shares of FNB Newton Bankshares, Inc., Covington, Georgia, and thereby indirectly acquiring First Nation Bank, Covington, Georgia.

3. The 2000 Williams Investment Company, LLC, Atlanta, Georgia; to become a bank holding company by acquiring 82.8 percent of the voting shares of FNB Newton Bankshares, Inc., Covington, Georgia, and thereby indirectly acquiring First Nation Bank, Covington, Georgia.

B. Federal Reserve Bank of St. Louis (Randall C. Sumner, Vice President) 411 Locust Street, St. Louis, Missouri 63166-2034:

1. Home Bancshares, Inc., Conway, Arkansas, and North Little Rock Bancshares, Inc., North Little Rock, Arkansas; to acquire over 5 percent of the voting shares of Russellville Bancshares, Inc., Jonesboro, Arkansas, and thereby indirectly acquire voting shares of First Arkansas Valley Bank, Russellville, Arkansas.

In connection with this application, Russellville Bancshares, Inc., Jonesboro, Arkansas, has applied to become a bank holding company by acquiring 86 percent of the voting shares of First Arkansas Valley Bank.

C. Federal Reserve Bank of Minneapolis (JoAnne F. Lewellen, Assistant Vice President) 90 Hennepin Avenue, Minneapolis, Minnesota 55480-0291:

1. Farmers State Corporation, Mankato, Minnesota; to acquire 100 percent of the voting shares of Owatonna Bancshares, Inc., Owatonna, Minnesota, and thereby indirectly acquire voting shares of Community Bank Minnesota, Owatonna, Minnesota.

D. Federal Reserve Bank of Kansas City (D. Michael Manies, Assistant Vice President) 925 Grand Avenue, Kansas City, Missouri 64198-0001:

1. Farmers Bank Holding Company, Ault, Colorado; to become a bank holding company by acquiring 100 percent of the voting shares of Farmers Bank, Ault, Colorado (in organization).

E. Federal Reserve Bank of San Francisco (Maria Villanueva, Consumer Regulation Group) 101 Market Street, San Francisco, California 94105-1579:

1. Trafalgar Holdings, LLC, Vancouver, Washington; to become a bank holding company by acquiring 60 percent of the voting shares of Regents Bancshares, Inc., Vancouver, Washington, and thereby indirectly acquire voting shares of Regents Bank, National Association, La Jolla, California (in organization).

In connection with this application, Regents Bancshares has applied to become a bank holding company.

2. YNB Financial Services Corp., Yakima, Washington; to become a bank holding company by acquiring 100 percent of the voting shares of Yakima National Bank, Yakima, Washington.

Board of Governors of the Federal Reserve System, June 13, 2001.
Robert deV. Frierson
Associate Secretary of the Board.

[FR Doc. 01-15347 Filed 6-15-00; 8:45 am]

BILLING CODE 6210-01-S